DEPARTMENT OF LABOR

Office of the Secretary

[Secretary's Order 1-2007]

The Department of Labor's Employee Occupational Safety and Health, Workers' Compensation, Drug Free Workplace, Employee Assistance, Voluntary Employee Health Services Fitness, and Drug Free Workplace Programs

1. Purpose

To reaffirm policies and assign responsibilities for internal programs that promote the safety, well-being and productivity of the Department's employees, while conserving its financial resources. This Order addresses implementation and management of the occupational employee safety, health, workers' compensation, and return-to-work efforts, voluntary employee health services, employee assistance, fitness, and Drug Free Workplace programs.

2. Authorities and Directives Affected

A. Authorities. This Order is issued pursuant to section 19 of the Occupational Safety and Health Act of 1970 (Pub. L. 51-596); Executive Order 12196 (45 FR 12769), as amended by Executive Order 12223 (45 FR 45235); 29 CFR Part 1960; 5 U.S.C. 7901, et seq.; Executive Order 12564 (51 FR 32889); Mandatory Guidelines for Federal Workplace Drug Testing Programs, Alcohol, Drug Abuse, and Mental Health Administration, Department of Health and Human Services (April 11, 1988); the Federal Employee Substance Abuse Education and Treatment Act of 1986 (Pub. L. 99-570); the Comprehensive Alcohol Abuse and Alcoholism Prevention, Treatment and Rehabilitation Act of 1970 (Pub. L. 93-282), and as amended by Pub. L. 96-180; the Drug Abuse Prevention, Treatment, and Rehabilitation Act of 1979 (Pub L. 96-181); the Privacy Act of 1974 (5 U.S.C. 552a), as amended; Health Insurance and Portability and Accountability Act of 1996 (“HIPAA”) (Pub. L. 104-191); Executive Order 10450 (18 FR 2489); Section 503 of the Supplemental Appropriations Act of 1987 (Pub. L. 100-71) (5 U.S.C. 7301 note); Mandatory Guidelines for Federal Workplace Drug Testing Programs, Substance Abuse and Mental Health Services Administration, Department of Health and Human Services (HHS) guidelines, as amended (53 FR 11970), April 11, 1988, and as revised in 1994; the Civil Service Reform Act of 1978 (5 U.S.C. 2301); the Department of Labor Drug-Free Workplace Plan, July 2004.

B. Directives Affected. This order supersedes and cancels Secretary's Order 5-95.

3. Background

Various public laws and federal regulations require Federal agencies to establish and operate comprehensive occupational safety and health, workers' compensation, employee assistance, and drug-free workplace programs. Other public laws and federal regulations authorize Federal agencies to establish and operate voluntary employee health services and fitness programs. Accordingly, this Order prescribes the policies and procedures to which DOL managers and employees are expected to adhere and assigns responsibility for their development and implementation.

4. Scope

This Order is applicable to all DOL employees, work activities, facilities, motor vehicles, and equipment.[k3]

5. Policy

It is the policy of the Department of Labor:

• To provide its employees places and conditions of employment that are free from recognized hazards that are likely to cause death or serious physical harm;

• To comply with applicable federal occupational safety and health standards, requirements, and procedures;

• To ensure prompt abatement of unsafe or unhealthful working conditions;

• To ensure that no employee is subject to restraint, interference, coercion, discrimination, or reprisal for filing reports of unsafe or unhealthful working conditions or otherwise appropriately participating in the Department's occupational safety and health program;

• To inspect, at least annually, all of its workplaces;

• To provide appropriate occupational safety and health-related education for managers, supervisors, employees, and those persons assigned safety and occupational health responsibilities;

• To support employees in staying fit, healthy, drug-free and productive on the job;

• To assist them when workers' compensation services are sought; and

• To provide meaningful return-to-work opportunities for employees injured or made ill on the job.

The Department's staff shall use their best and continuous efforts to maintain a safe and healthful work environment in accordance with best work practices and legislative requirements. All staff shall strive to eliminate hazards that might result in personal injuries, fires, security losses or damage to property by providing the necessary training, encouragement, resources and accountability. Occupational illness prevention shall be accomplished through appropriate industrial hygiene and occupational medical programs, including engineering controls, employee monitoring, health testing and education.

6. Responsibilities

A. The Assistant Secretary for Administration and Management is the Designated Agency Safety and Health Official (DASHO) pursuant to section 1-201 (c) of Executive Order 12196, and is responsible for establishing, administering, managing, and conducting internal self-evaluation of the Department's occupational safety and health program. In addition to safety and occupational health responsibilities as DASHO, the Assistant Secretary for Administration and Management is also responsible for establishing, administering, and managing the Department's programs relating to voluntary employee health services, fitness, employee assistance, drug-free workplace, workers' compensation, and return-to-work efforts. The Department of Labor Manual Series (DLMS) provides information on the conduct of some of these programs. In addition, the ASAM is responsible for:

(1) Securing the services of professional staff qualified to provide technical support and management assistance to DOL agencies on occupational safety and health, workers' compensation, return-to-work, drug-free workplace, and employee assistance programs.

(2) Providing voluntary health, wellness, and fitness programs for DOL employees, as appropriate.

B. The Office of Worker Safety and Health established in the Office of the Assistant Secretary for Administration and Management is an integral part of the Department's internal safety management program. OWSH shall assist management in implementing and monitoring this order to accomplish its objectives and ensure that the programs under OWSH's purview function as directed. Performance will be continuously measured and periodically evaluated by OWSH to determine areas requiring improvement. In addition, the OWSH is responsible for providing guidance and advice to management, and employees regarding safety and health matters, developing hazard control designs, methods, procedures and programs, measuring and evaluating the effectiveness of hazard controls, compiling, analyzing and reporting performance data, and developing pertinent education and training information. Further, OWSH provides program direction to the Regional Administrators/OASAM and Regional safety and health managers. Finally, OWSH is responsible for centralized management of the Department's Workers' Compensation Program, from initiation of claims through claim management and return-to-work coordination.

C. The Office of WorkLife and Benefits Programs (OWLBP) established in the Office of the Assistant Secretary for Administration and Management is responsible for providing programs to improve the health and well-being of employees.

These programs include but are not limited to voluntary employee health services, including provision of health clinics where practical, provision of health and wellness guidance, provision of an employee assistance program, and drug free workplace program. The OWLBP provides policy and guidance for the Department in these program areas. The OWLBP shall assist management in implementing and monitoring this order to accomplish its objectives and ensure that the programs under the Office's purview function as directed.

D. The DOL Agency Heads are responsible for:

(1) Giving full management support to the Department's safety and occupational health, workers' compensation, return-to-work ,voluntary employee health services, fitness, employee assistance, and drug-free workplace programs, as provided in this Order.

(2) Implementing and maintaining occupational safety and health programs in their national and field offices in accordance with Departmental policy, applicable statutory, regulatory, administrative, and contractual requirements.

(3) Appointing and having trained a sufficient number of staff throughout their organizations to perform collateral or full-time support for the following programs: Occupational safety and health, workers' compensation coordination, return-to-work program drug-free workplace, voluntary employee health services, fitness, employee assistance, and to support safety and health committees; and to assist managers, supervisors, and employees in the implementation of their responsibilities outlined in this Order.

(4) Providing leadership that supports attainment of the Department's safety, health and return-to-employment goals developed to reduce employee accidents, injuries, and illnesses, and contain workers' compensation costs.

(5) Holding managers, supervisors and employees accountable for their adherence to established occupational safety and health, workers' compensation policies employee assistance, and drug free workplace, rules, regulations, and procedures.

(6) Ensuring that agency managers, supervisors, and employees participate in educational and training experiences necessary to carry out their assigned duties in a safe and healthful manner.

(7) Ensuring that employee representatives have the opportunity to participate in the DOL safety and occupational health program, including the opportunity to participate in educational and training experiences necessary to carry out their safety and occupational health responsibilities.

E. Regional Administrators—OASAM (RA/OASAM) are responsible for securing the services of professional staff to provide leadership, guidance, training, coordination, oversight, evaluation, cost containment initiatives, and technical assistance services to agency officials, managers, supervisors, employees, employee representatives, and safety and health committee members.

F. DOL Managers and Supervisors are responsible for:

(1) Ensuring that employees adhere to Departmental occupational safety, health, drug-free workplace and workers' compensation rules, regulations and standards, and integrating safety and health considerations into the planning of every job or task.

(2) Taking prompt action to have identified occupational safety and health hazards in their work environment abated, and providing instructions to employees on safe and proper work practices and procedures.

(3) Promptly and accurately reporting all accidents, injuries and occupational illnesses occurring on official duty by employees or contractors under their supervision electronically through the Safety and Health Information Management System (SHIMS), and participating on Accident Review Boards (ARBs).

(4) Conferring with the human resources office when the manager or supervisor believes that the employee's medical condition may be adversely affecting performance or conduct, to determine the manager's obligations under the Rehabilitation Act of 1973, including but not limited to, notifying the employee of the agency's Employee Assistance Program (EAP).

(5) Taking necessary steps to ensure the integrity of the Department's Workers' Compensation program, particularly the continuation of pay and return-to-work elements.

G. DOL employees are responsible for;

(1) Maintaining a high degree of safety awareness;

(2) Performing their duties in a safe manner and encouraging other employees to do likewise;

(3) Wearing and/or using personal protective equipment when necessary;

(4) Properly using tools and equipment provided;

(5) Immediately reporting safety and health-related hazards, accidents/injuries/occupational illnesses, unsafe or unhealthful acts or workplace conditions to their supervisors or occupational safety and health personnel; and

(6) Participating in appropriate occupational safety and health education and training.

H. Safety and Health Committees will be formed under the auspices of OWSH and in keeping with negotiated labor/management contracts, forming communication links between employees and the various levels of management, advising management on occupational safety and occupational health issues, and assisting with implementing occupational safety and occupational health awareness activities.

I. The Solicitor is responsible for providing legal advice and assistance to all Department of Labor officials relating to the implementation and administration of all aspects of this Order.

7. Effective Date

This Order is effective immediately.

Dated: January 5, 2007.
Elaine L. Chao,
Secretary of Labor.

[FR Doc. E7-264 Filed 1-11-07; 8:45 am]

BILLING CODE 4510-23-P